DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

National Evaluation of the Comprehensive Community Mental Health Services for Children and Their Families Program, Phase Four—New—SAMHSA's Center for Mental Health Services (CMHS) is conducting Phase IV of this national evaluation project among grantees newly funded in FY 2002 and 2003. The national evaluation of the Comprehensive Community Mental Health Services for Children and Their Families Program will collect data on child mental health outcomes, family life, and service system development and performance.

Data will be collected on 32 service systems, and approximately 7,868 children and families. Data collection for this evaluation will be conducted in each site over a five-year period. The core of service system data will be collected every 18 months throughout the 5-year evaluation period, with a sustainability survey conducted in selected years. Service delivery and system variables of interest include the following: maturity of system of care development, adherence to the system of care program model, and client service experience. The length of time that individual families will participate in the study ranges from 18 to 36 months depending on when they enter the evaluation.

Child and family outcomes of interest will be collected at intake and during subsequent follow-up sessions at six-month intervals. The outcome measures include the following: child symptomatology and functioning, family functioning, material resources, and caregiver strain. In addition, an evidence-based treatment study will examine the relative impact of evidence-based treatments focused on substance use prevention within two systems of care. Time-limited studies addressing the cultural competence of services and the role of primary care providers in systems of care will be conducted at selected points during the evaluation period. Internet-based technology will be used for collecting data via Web-based surveys and for data entry and management. The average annual respondent burden is estimated below.

Instrument and respondent | No. of respondents | Avg. # of responses per respondent | Hours per response | Total burden hours | 6.5 yr. avg. annual burden hours
System of Care Assessment
Interview Guides and Data Collection Forms: Key site informants | 672 | 3 | 1 | 2,016 | 310
Interagency Collaboration Scale: Key site informants | 672 | 3 | 0.13 | 269 | 41
Cross-sectional Descriptive Study
Descriptive Interview Questionnaire: Caregiver | 7,868 | 6 | 0.283 | 10,097 | 1,279
Child and Family Outcome Study
Caregiver Strain Questionnaire: Caregiver | 7,868 | 6 | 0.167 | 7,884 | 1,213
Child Behavior Checklist: Caregiver | 7,868 | 6 | 0.333 | 15,720 | 2,418
Education Questionnaire: Caregiver | 7,868 | 6 | 0.1 | 4,721 | 726
Living Situations Questionnaire: Caregiver | 7,868 | 6 | 0.083 | 3,934 | 605
The Family Life Questionnaire: Caregiver | 7,868 | 6 | 0.050 | 2,360 | 363
Behavioral and Emotional Rating Scale: Caregiver | 7,475 | 6 | 0.167 | 7,490 | 1,152
Columbia Impairment Scale: Caregiver | 7,475 | 6 | 0.083 | 3,737 | 575
The Vineland Screener: Caregiver | 393 | 6 | 0.25 | 590 | 91
Delinquency Survey: Youth | 4,721 | 6 | 0.167 | 4,721 | 726
Behavioral and Emotional Rating Scale: Youth | 4,721 | 6 | 0.167 | 4,721 | 726
Gain-quick Substance Related Issues: Youth | 4,721 | 6 | 0.083 | 2,360 | 363
Substance Use Scale: Youth | 4,721 | 6 | 0.100 | 2,832 | 436
Revised Children's Manifest Anxiety Scales: Youth | 4,721 | 6 | 0.050 | 1,416 | 218
Reynolds Adolescent Depression Scale-Second Edition: Youth | 4,721 | 6 | 0.050 | 1,416 | 218
Youth Information Questionnaire: Youth | 4,721 | 6 | 0.167 | 4,721 | 629
Service Experience Study
Multi-Sector Service Contacts: Caregiver | 7,868 | 5 | 0.333 | 13,113 | 2,017
Cultural Competence and Service Provision Questionnaire: Caregiver | 7,868 | 5 | 0.167 | 6,557 | 1,009
Youth Services Survey—Family: Caregiver | 7,868 | 5 | 0.083 | 3,278 | 504
Youth Services Survey: Youth | 4,721 | 5 | 0.083 | 1,967 | 303
Treatment Effectiveness Study
Diagnostic Interview Schedule for Children version IV: Caregiver | 262 | 1 | 1.000 | 262 | 40
Treatment Fidelity Protocol: Caregiver | 240 | 5 | 0.500 | 600 | 92
Treatment Fidelity Protocol: Youth | 240 | 5 | 0.500 | 600 | 92
Treatment Fidelity Protocol: Provider | 240 | 5 | 0.500 | 600 | 92
Treatment Outcome Measure: Caregiver | 240 | 6 | 1.000 | 1,440 | 221
Treatment Outcome Measure: Youth | 240 | 6 | 1.000 | 1,440 | 221
System-of-Care Practice Review: Caregiver | 80 | 1 | 1.000 | 80 | 12
System-of-Care Practice Review: Youth | 80 | 1 | 0.750 | 60 | 9
System-of-Care Practice Review: Provider | 80 | 1 | 1.000 | 80 | 12
System-of-Care Practice Review: Informal Provider | 80 | 1 | 0.250 | 20 | 3
Provider Attitudes Survey-Site Selection Screener: Provider | 450 | 1 | 0.083 | 37 | 6
Provider Attitudes Survey: | 240 | 1 | 0.083 | 20 | 3
Sustainability Study
Sustainability Survey: Provider/Administrator | 128 | 3 | 0.750 | 288 | 44
Culturally Competent Practices Study
Culturally Competent Practices Survey: Provider | 960 | 1 | 0.500 | 480 | 74
Culturally Competent Practices Focus Group: Caregiver | 36 | 1 | 1.500 | 54 | 8
Culturally Competent Practices Focus Group: Youth | 36 | 1 | 1.500 | 54 | 8
Culturally Competent Practices Focus Group: Provider/Administrator | 60 | 1 | 1.500 | 90 | 14
Primary Care Providers Study
Primary Care Providers Survey: Provider | 960 | 1 | 0.333 | 320 | 49
Total |  |  |  | 112,447 | 17,299

Written comments and recommendations concerning the proposed information collection should be sent within 30 days of this notice to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: January 13, 2004.
Anna Marsh,
Acting Executive Officer, SAMHSA.

[FR Doc. 04-1169 Filed 1-20-04; 8:45 am]

BILLING CODE 4162-20-P